DEPARTMENT OF COMMERCE

International Trade Administration

[A-583-008]

Certain Circular Welded Carbon Steel Pipes and Tubes From Taiwan: Amended Final Results of Antidumping Duty Administrative Review; 2015-2016

AGENCY: Enforcement and Compliance, International Trade Administration, Department of Commerce.

SUMMARY: The Department of Commerce (Commerce) is amending the final results of the administrative review of the antidumping duty order on certain circular welded carbon steel pipes and tubes from Taiwan. The period of review (POR) is May 1, 2015, through April 30, 2016. The amended final weighted-average dumping margin is listed below in the section entitled “Amended Final Results.”

DATES: Applicable January 19, 2018.

FOR FURTHER INFORMATION CONTACT: Scott Hoefke, AD/CVD Operations, Office VI, Enforcement and Compliance, International Trade Administration, U.S. Department of Commerce, 1401 Constitution Avenue NW, Washington, DC 20230; telephone: (202) 482-4947.

SUPPLEMENTARY INFORMATION:

Background

On November 20, 2017, Commerce published the Final Results of this review in the Federal Register.¹ On December 1, 2017, Shin Yang Steel Co., Ltd. (Shin Yang) timely filed a ministerial error allegation concerning the Final Results and requested, pursuant to 19 CFR 351.224, that Commerce correct the alleged ministerial error.²

¹ See Certain Circular Welded Carbon Steel Pipes and Tubes from Taiwan: Final Results of Antidumping Duty Administrative Review and Final Determination of No Shipments; 2015-2016, 82 FR 55093 (November 20, 2017) (Preliminary Results), and accompanying Memorandum, “Issues and Decision Memorandum for the Final Results of Antidumping Duty Administrative Review: Certain Circular Welded Carbon Steel Pipes and Tubes from Taiwan; 2015-2016,” dated November 13, 2017 (Issues and Decision Memorandum).

² See Shin Yang's December 1, 2017 Ministerial Error Allegation.

Scope of the Order

The merchandise subject to the order is certain circular welded carbon steel pipes and tubes from Taiwan. The product is currently classified under the Harmonized Tariff Schedule of the United States (HTSUS) item numbers 7306.30.5025, 7306.30.5032, 7306.30.5040, and 7306.30.5055. Although the HTSUS numbers are provided for convenience and customs purposes, the written product description remains dispositive.³

³ For a complete description of the scope of the order, see Final Results and accompanying (Issues and Decision Memorandum). The Department is not making any changes to the scope of the order for these amended final results.

Ministerial Error

Section 351.224(e) of Commerce's regulations provides that Commerce will analyze any comments received and, if appropriate, correct any ministerial error by amending the final determination or the final results of the review. Section 751(h) of the Tariff Act of 1930, as amended (the Act), and 19 CFR 351.224(f) define a “ministerial error” as an error “in addition, subtraction, or other arithmetic function, clerical error resulting from inaccurate copying, duplication, or the like, and any other similar type of unintentional error which the Secretary considers ministerial.”

We analyzed Shin Yang's ministerial error allegation and determined, in accordance with section 751(h) of the Act and 19 CFR 351.224(e) and (f), that we made a ministerial error in our calculation of Shin Yang's dumping margin. Specifically, we used an incorrect window period to identify home market sales available for matching to U.S. sales (i.e., the ENDDAY variable in Commerce's calculations program). We have now corrected the error.⁴

⁴ See memorandum, “Amended Final Results Analysis Memorandum for Shin Yang Steel Co., Ltd.” dated concurrently with this notice.

Amended Final Results of Review

As a result of correcting the ministerial error for this review, we determine that the following weighted-average dumping margin exists:

Producer/Exporter | Dumping margin (percent)
Shin Yang Steel Co., Ltd | 1.71

Disclosure

We intend to disclose the calculations performed for these amended final results of review within five days of the date of publication of this notice in the Federal Register, in accordance with 19 CFR 351.224(b).

Assessment

Commerce shall determine, and CBP shall assess, antidumping duties on all appropriate entries covered by this review pursuant to section 751(a)(2)(C) of the Act and 19 CFR 351.212(b). For Shin Yang, because its weighted-average dumping margin is not zero or de minimis (i.e., less than 0.5 percent), Commerce has calculated importer-specific antidumping duty assessment rates. We calculated customer-specific weighted-average dumping margins by dividing the total amount of dumping for reviewed sales to the customer by the total sales quantity associated with those transactions, Commerce will direct CBP to assess customer-specific assessment rates based on the resulting per-unit rates.⁵ We will instruct CBP to assess antidumping duties on all appropriate entries covered by this review where a customer-specific assessment rate is not zero or de minimis. Pursuant to 19 CFR 351.106(c)(2), we will instruct CBP to liquidate without regard to antidumping duties any entries for which the importer-specific assessment rate is zero or de minimis.

⁵ See 19 CFR 351.212(b)(1).

Cash Deposit Requirements

The following cash deposit requirements will be effective for all shipments of subject merchandise entered, or withdrawn from warehouse, for consumption on or after the publication date of the final results of this administrative review, as provided by section 751(a)(2) of the Act: (1) The cash deposit rates will be equal to the weighted-average dumping margins established in the final results of this review; (2) for previously reviewed or investigated companies not participating in this review, the cash deposit rate will continue to be the company-specific rate published for the most recently completed segment of this proceeding in which the company was reviewed; (3) if the exporter is not a firm covered in this review, a previous review, or the original less-than-fair-value (LTFV) investigation, but the manufacturer is, the cash deposit rate will be the rate established for the most recently completed segment of this proceeding for the manufacturer of subject merchandise; and (4) the cash deposit rate for all other manufacturers or exporters will continue to be 9.70 percent, the all-others rate established in the LTFV investigation.⁶ These deposit requirements, when imposed, shall remain in effect until further notice.

⁶ See Certain Circular Welded Carbon Steel Pipes and Tubes from Taiwan: Antidumping Duty Order, 49 FR 19369 (May 7, 1984).

Notification to Importers

This notice serves as a final reminder to importers of their responsibility under 19 CFR 351.402(f)(2) to file a certificate regarding the reimbursement of antidumping duties prior to liquidation of the relevant entries during this review period. Failure to comply with this requirement could result in the Secretary's presumption that reimbursement of antidumping duties occurred and the subsequent assessment of double antidumping duties.

Administrative Protective Orders

This notice also serves as a reminder to parties subject to administrative protective order (APO) of their responsibility concerning the destruction of proprietary information disclosed under APO in accordance with 19 CFR 351.305(a)(3). Timely written notification of the return or destruction of APO materials or conversion to judicial protective order is hereby requested. Failure to comply with the regulations and terms of an APO is a sanctionable violation.

We are issuing and publishing these results in accordance with sections 751(a)(1) and 777(i)(1) of the Act.

Dated: January 11, 2018.
Gary Taverman,
Deputy Assistant Secretary for Antidumping and Countervailing Duty Operations, performing the non-exclusive functions and duties of the Assistant Secretary for Enforcement and Compliance.

[FR Doc. 2018-00925 Filed 1-18-18; 8:45 am]

BILLING CODE 3510-DS-P